DEPARTMENT OF COMMERCE

National Oceanic and Atmospheric Administration

[I.D. 013006E]

Fisheries of the South Atlantic; Public Meeting

AGENCY: National Marine Fisheries Service (NMFS), National Oceanic and Atmospheric Administration (NOAA), Commerce.

ACTION: Notice of meeting to refine Internet Mapping System.

SUMMARY: The South Atlantic Fishery Management Council (Council) will hold a meeting to refine its Internet Mapping System in St. Petersburg, FL.

DATES: The workshop will take place March 7-8, 2006. See SUPPLEMENTARY INFORMATION for specific dates and times.

ADDRESSES: The meeting will be held at the Florida Fish and Wildlife Research Institute, 100 Eighth Avenue, S.E., St. Petersburg, FL 33701; telephone: (727) 896-8626; fax: (727) 893-2947.

Council address: South Atlantic Fishery Management Council, One Southpark Circle, Suite 306, Charleston, SC 29407-4699.

FOR FURTHER INFORMATION CONTACT: Kim Iverson, Public Information Officer, telephone: (843) 571-4366 or toll free: (866) SAFMC-10; fax: (843) 769-4520; email: kim.iverson@safmc.net.

SUPPLEMENTARY INFORMATION: The meeting will take place from 1 p.m.-5 p.m. on March 7, 2006 and from 9 a.m.-5 p.m. on March 8, 2006.

Invited participants representing scientific and mapping expertise will meet to continue to refine the Council's Internet Mapping System (IMS) with additional datasets and improved functionality.

The Council's IMS, as designed through a contract with the Florida's Fish and Wildlife Resources Institute, incorporates datasets, metadata, and images provided through cooperative efforts of several agencies. Continued collection and refinement of the IMS will assist the Council in the development of its Fishery Ecosystem Plan. Information provided on the site is accessible to the public at http://map.mapwise.com/safmc.

Although non-emergency issues not contained in this agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

These meetings are physically accessible to people with disabilities. Requests for auxiliary aids should be directed to the Council office (see ADDRESSES) at least 3 days prior to the meetings.

Note: The times and sequence specified in this agenda are subject to change.

Dated: January 31, 2006.
Tracey L. Thompson,
Acting Director, Office of Sustainable Fisheries, National Marine Fisheries Service.

[FR Doc. E6-1485 Filed 2-2-06; 8:45 am]

BILLING CODE 3510-22-S